DEPARTMENT OF ENERGY

Federal Energy Regulatory Commission

[Docket No. CP02-63-000]

White Rock Pipeline, L.L.C.; Notice of Application

January 18, 2002.

Take notice that on January 11, 2002, White Rock Pipeline, L.L.C. (White Rock), 426 East Missouri Avenue, Pierre, South Dakota 57501, filed in Docket No. CP02-63-000, an application pursuant to Section 7(c) of the Natural Gas Act (NGA) and Part 157 of the Commission's Rules and Regulations (Commission), for a certificate of public convenience and necessity authorizing White Rock to operate an existing single-use pipeline that is approximately 10.5 miles long and 4.5 inches in diameter, all as more fully set forth in the application which is on file with the Commission and open to public inspection. Copies of this filing are on file with the Commission and are available for public inspection. This filing may also be viewed on the Web at http://www.ferc.gov using the “RIMS” link, select “Docket#” and follow the instructions (call 202-208-2222 for assistance).

White Rock states that the proposed pipeline is to be used for the sole purpose of transporting natural gas from an interconnection with the Alliance Pipeline in North Dakota, to a end-use customer, the Tri-State Ethanol Company, L.L.C. (Tri-State), which is White Rock's affiliate. White Rock states that Tri-State is a farmer-owned company that is in the process of building a facility near Rosholt, South Dakota that will produce ethanol from locally-produced corn. It is stated that the plant will be operational by mid-February. According to White Rock, Tri-State will be the majority owner and will exercise ownership and operational control over the pipeline.

White Rock states that the proposed pipeline is located in a sparsely-populated agricultural area in the extreme southeast corner of North Dakota and the extreme northeast corner of South Dakota. According to White Rock, the pipeline passes through farms and under rural roads; it will not pass through any residential areas. The sole purpose and use of the pipeline will be to transport natural gas to White Rock's affiliate, Tri-State.

White Rock states that the proposed pipeline has already been constructed. It was built in October and November 2001 because, at that time, it was conceived that there would be two companies that would own the pipeline—White Rock, which would own the portion of the pipeline in South Dakota, and another company, Fairmount Natural Gas Pipeline Company, L.L.C. (Fairmount), which would own the pipeline running from the Alliance interconnection to the North Dakota-South Dakota border. White Rock and Fairmount believed this arrangement would not be subject to FERC jurisdiction because the White Rock pipeline (as then conceived) would be a non-jurisdictional, intra-state plant line located wholly within South Dakota, and the Fairmount pipeline would be an intrastate pipeline located wholly in North Dakota, only interconnecting with the White Rock pipeline at the state border.

As a result, according to White Rock, the pipeline running from Alliance to the Tri-State facility was constructed in the Fall of 2001. No landowners expressed concern with the construction, as all easements and rights-of-way already had been purchased from consenting landowners.

According to White Rock, in accordance with Alliance's suggestion expressed during negotiations of an interconnect development agreement, White Rock agreed to obtain either an NGA certificate of public convenience and necessity, or a FERC determination that the pipelines were not required to obtain an NGA certificate.

According to White Rock, as a result and because the owners of these pipelines wish to put the entire pipeline into service as promptly as possible, White Rock has filed the subject application to operate the pipeline. Furthermore, and to simplify this application and its intent, the entire pipeline running from the Alliance interconnection to the Tri-State facility has been consolidated and now is owned and will be operated as a single pipeline—i.e., the White Rock pipeline, and the Fairmount entity will be or has been dissolved. The entire 10.5 mile pipeline is now owned by White Rock.

White Rock states that in addition to approving its request for a certificate, White Rock requests that the Commission grant a waiver of any regulations and requirements that White Rock may not have complied with in constructing its pipeline as it did. White Rock further requests waiver of various otherwise-applicable FERC regulations and requirements.

Any questions regarding this application should be directed to James Robbennolt, Olinger, Lovald, Robbennolt, McCahren & Reimers, P.C., 117 E. Capitol, P. O. Box 66, Pierre, S.D. 57501, at (605) 224-8851.

There are two ways to become involved in the Commission's review of this project. First, any person wishing to obtain legal status by becoming a party to the proceedings for this project should, on or before January 25, 2002, file with the Federal Energy Regulatory Commission, 888 First Street, NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Comments, protests and interventions may be filed electronically via the Internet in lieu of paper. See, 18 CFR 385.2001(a)(1)(iii) and the instructions on the Commission's Web site under the “e-Filing” link.

If the Commission decides to set the application for a formal hearing before an Administrative Law Judge, the Commission will issue another notice describing that process. At the end of the Commission's review process, a final Commission order approving or denying a certificate will be issued.

Linwood A. Watson, Jr.,
Acting Secretary.

[FR Doc. 02-1825 Filed 1-24-02; 8:45 am]

BILLING CODE 6717-01-P